DEPARTMENT OF COMMERCE

International Trade Administration

Commercial Service Franchising Trade Mission

AGENCY: International Trade Administration, Department of Commerce.

ACTION: Notice to announce franchising trade mission to Dublin, Ireland, October 4-5, 2004.

FOR FURTHER INFORMATION CONTACT: Office of Business Liaison; Room 5062; Department of Commerce; Washington, DC 20230; Tel: (202) 482-1360; Fax: (202) 482-4054.

SUPPLEMENTARY INFORMATION:

Franchising Trade Mission, Dublin, Ireland

October 4-5, 2004.

Mission Statement

I. Description of the Mission

The United States Department of Commerce, International Trade Administration, U.S. Commercial Service, Office of Export Promotion Services is organizing a Franchising Trade Mission to Dublin, Ireland, October 4-5, 2004. This event will target the service sectors that have potential for participating U.S. franchisors.

II. Commercial Setting for the Mission

The franchise sector in Ireland has experienced substantial growth in the past few years, with 160 systems now operating over 1,400 individual units in Ireland. The industry supports approximately 15,000 full-time equivalent jobs and during 2002 generated annual sales of over $1.3 billion. The number of franchise units is expected to reach 2,500 over the next three years. This surge in interest is being met by a healthy supply base of potential master licensees and franchisees.

The principal business sectors served by franchise operations in Ireland are food, home improvement, maintenance, business and professional services. The U.S. is now the dominant source of franchises, accounting for 39 percent of the market, overtaking the U.K. by 9 percent, while indigenous franchises account for a further 15 percent. U.S. franchises include household names such as Mail Boxes, Etc., McDonald's, TGI Fridays, and Remax. In line with high growth in the sector, established fast food companies including KFC, Burger King and Domino's Pizza have announced aggressive expansion plans to develop a combined total of 140 units over the next four years.

Indigenous franchises are also contributing to the strong growth of the sector, with the rapid expansion of franchises such as Supermacs, Abrakebabara, Nector Juice Bars and Ireland's most successful domestic and international franchise, O'Briens Irish Sandwich Bars. Future growth areas are predicted to include home help, building maintenance, cleaning, restaurant business, small home office and childcare facilities.

III. Goals for the Mission

The Trade Mission's goal is to gain first-hand market information and provide access to key government officials and potential business partners for new-to-market, and new-to-export U.S. franchises desiring to enter the Ireland's promising market.

IV. Scenario for the Mission

Mission participants will arrive in Dublin on or before October 3, 2004 where they will have two days (October 4-5, 2004) of business meetings with potential master franchisees interested in their concept. The post will also organize a business reception on the evening of October 4, 2004, to give the participants an opportunity to meet with potential partners. The mission will officially conclude on the evening of October 5, 2004.

This mission will be promoted through the following avenues: Export Assistance Centers and the franchising team; industry newsletters; Federal Register; relevant trade publications and associations; past trade mission participants; various in-house and purchased industry lists and on the Commerce Department trade mission calendar. Web site: http://www.export.gov/comm_svc/tradeevents.html.

V. Criteria for Participant Selection

—Relevance of company's products and services to mission goals;

—Potential for business in the market;

—Timely submission of company's completed application and payment of participation fee;

—Provision of adequate information on company's products/services and communication of the company's primary objectives to facilitate appropriate appointments with potential business partners;

—Certification that company's products or services are manufactured in the U.S. or if manufactured outside of the U.S. the product/service must be marketed under the name of a U.S. firm and have a U.S. content representing at least 51 percent of the value of the finished product/service;

—Any partisan political activities of an applicant, including political contributions, will be entirely irrelevant to the selection process.

Recruitment will begin immediately and will close on August 6, 2004 approximately 6 weeks prior to the start of the mission. The budget is based on 10 companies and the participation fee will be $1,700 per company.

Contact Information: Sam Dhir, Project Manager, Office of Trade Events Program, U.S. Commercial Service, U.S. Department of Commerce, Room 2118, Washington, DC 20230, Tel: 202-482-4756; Fax; 202-482-0178. E-mail: sam.dhir@mail.doc.gov.

Dated: July 26, 2004.
Nancy Hesser,
Industry Sector Manager, Export Promotion Services.

[FR Doc. 04-16908 Filed 7-23-04; 8:45 am]

BILLING CODE 3510-DR-P